DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 30, 2024. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Regulations Governing the Voluntary Grading of Shell Eggs, Poultry Products, and Rabbit Products—7 CFR parts 54, 56, 62 and 70.

OMB Control Number: 0581-0128.

Summary of Collection: The Agricultural Marketing Act of 1946 (60 Stat. 1087-1091, as amended; 7 U.S.C. 1621-1627) hereinafter referred to as the “Act,” authorizes the Secretary of Agriculture to provide consumers with voluntary Federal grading and certification services that facilitate the marketing of agricultural commodities. The Quality Assessment Division (QAD) provides these services under the authority of 7 CFR parts 54, 56, and 70. The regulations provide a voluntary program for grading and certification services based on U.S. standards, grades, and weight classes to enable orderly marketing of the corresponding agricultural products. The regulation in 7 CFR part 62—AMS Audit Verification and Accreditation Programs (AVAAP) is a collection of voluntary, audit-based, user-fee funded programs that allow applicants to have program documentation and program processes assessed by Agricultural Marketing Service (AMS) auditor(s) and other USDA officials. Services are made available to respondents who request it and provided on a user fee-for-service basis. The Regulations provide provisions for the collection of fees from users of QAD services. To facilitate QAD services, a minimal amount of information collection and/or documentation is required using Forms LP-109, LP-110, LP-157, LP-210P, LP-210S, LP-234, LP-240P, and LP-240S. Information on these forms is collected only from respondents who elect to utilize QAD voluntary user fee-for-service.

Need and Use of the Information: Using forms LPS-109, LPS-110, LPS-157, LPS-240P, LPS-240S, LPS-210P, LPS-210S and LPS-234, information is collected only from respondents who elect to utilize this voluntary user fee-for-service. Only authorized representatives of the USDA use the information collected. The information is used to administer, conduct and carry out the grading services requested by the respondents. If the information were not collected, the agency would not be able to provide the voluntary grading services authorized and requested by congress, provide the types of services requested by industry, administer the program, ensure properly grade-labeled products, calculate the cost of the service or collect for the cost furnishing service.

Description of Respondents: Business or other for profit, Farms.

Number of Respondents: 1,483.

Frequency of Responses: Reporting: On occasion; Semi-annually; Monthly; Annually; Other (daily).

Total Burden Hours: 12,168.

Levi S. Harrell,
Departmental Information Collection Clearance Officer.

[FR Doc. 2024-19439 Filed 8-28-24; 8:45 am]

BILLING CODE 3410-02-P